DEPARTMENT OF AGRICULTURE

Animal and Plant Health Inspection Service

[Docket No. APHIS-2025-0037]

Notice of Request for Extension of Approval of an Information Collection; Standardizing Phytosanitary Treatment Regulations: Approval of Cold Treatment and Irradiation Facilities; Cold Treatment Schedules; and Establishment of Fumigation and Cold Treatment Compliance Agreements

AGENCY: Animal and Plant Health Inspection Service, USDA.

ACTION: Extension of approval of an information collection; comment request.

SUMMARY: In accordance with the Paperwork Reduction Act of 1995, this notice announces the Animal and Plant Health Inspection Service's intention to request an extension of approval of an information collection associated the phytosanitary treatment regulations to establish generic criteria that would allow for the approval of new cold treatment facilities in the Southern and Western States of the United States.

DATES: We will consider all comments that we receive on or before November 25, 2025.

ADDRESSES: You may submit comments by either of the following methods:

• Federal eRulemaking Portal: Go to www.regulations.gov. Enter APHIS-2025-0037 in the Search field. Select the Documents tab, then select the Comment button in the list of documents.

• Postal Mail/Commercial Delivery: Send your comment to Docket No. APHIS-2025-0037, Regulatory Analysis and Development, PPD, APHIS, 5601 Sunnyside Ave., #AP760, Beltsville, MD 20705.

Supporting documents and any comments we receive on this docket may be viewed at http://www.regulations.gov or in our reading room, which is located in room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on environmental monitoring, contact Mr. Xiangbing Yang, Laboratory Director, APHIS, PPQ, ST, 13601 Old Cutler Rd., Miami, FL 33158; (305) 278-4881. For more detailed information on the information collection process, contact Ms. Sheniqua Harris, APHIS' Information Collection Coordinator, at 301-851-2528 or email: APHIS.PRA@usda.gov.

SUPPLEMENTARY INFORMATION:

Title: Standardizing Phytosanitary Treatment Regulations: Approval of Cold Treatment and Irradiation Facilities; Cold Treatment Schedules; and Establishment of Fumigation and Cold Treatment Compliance Agreements.

OMB Control Number: 0579-0450.

Type of Request: Extension of approval of an information collection.

Abstract: The United States Department of Agriculture (USDA) is responsible for preventing plant diseases or insect pests from entering the United States, preventing the spread of pests and noxious weeds not widely distributed into the United States, and eradicating those imported pests when eradication is feasible. The Plant Protection Act (PPA, 7 U.S.C. 7701 et seq.) authorizes the Department to carry out this mission. Under the PPA, the Animal and Plant Health Inspection Service (APHIS) is authorized, among other things, to regulate the importation of plants, plant products, and other articles to prevent the introduction of plant pests into the United States.

The Phytosanitary treatment regulations contained in 7 CFR part 305.1 thru 305.9 (referred to below as the regulations), set out the general requirements for performing treatments and certifying or approving treatment facilities for fruits, vegetables, and other articles to prevent the introduction or dissemination of plant pests or noxious weeds into or throughout the United States.

The phytosanitary treatment regulations establish generic criteria that would allow for the approval of new cold treatment and irradiation facilities; cold treatment schedules; and establishment of fumigation and cold treatment compliance agreements. These criteria, if met, would allow APHIS to approve new cold treatment facilities without rulemaking and facilitate the importation of fruit requiring cold treatment while continuing to provide protection against the introduction of pests of concern into the United States. The fruit cutting and inspection requirements in the cold treatment regulations expands cutting and inspection to commodities that have been treated for a wider variety of pests of concern. These actions provide for a greater degree of phytosanitary protection. APHIS also requires the establishment of compliance agreements for those entities that operate fumigation facilities. Finally, APHIS requires harmonized language concerning State compliance with facility establishment and parameters for the movement of consignments from the port of entry or points of origin in the United States to the treatment facility in the irradiation treatment regulations language in the cold treatment regulations.

APHIS is asking the Office of Management and Budget (OMB) to approve the use of these information collection activities, for an additional 3 years, associated with its efforts to prevent the spread of plant pests and plant diseases in the United States.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.51 hours per response.

Respondents: National plant protection organizations, facility operators, importers, and State governments.

Estimated annual number of respondents: 205.

Estimated annual number of responses per respondent: 2.

Estimated annual number of responses: 385.

Estimated total annual burden on respondents: 205 hours. (Due to averaging, the total annual burden hours may not equal the product of the annual number of responses multiplied by the reporting burden per response.)

All responses to this notice will be summarized and included in the request for OMB approval. All comments will also become a matter of public record.

Done in Washington, DC, this 22nd day of September 2025.
Michael Watson,
Administrator, Animal and Plant Health Inspection Service.

[FR Doc. 2025-18744 Filed 9-25-25; 8:45 am]

BILLING CODE 3410-34-P